DEPARTMENT OF DEFENSE

GENERAL SERVICES ADMINISTRATION

NATIONAL AERONAUTICS AND SPACE ADMINISTRATION

[OMB Control No. 9000-0029; Docket No. 2025-0053; Sequence No. 15]

Information Collection; Extraordinary Contractual Action Requests

AGENCY: Department of Defense (DOD), General Services Administration (GSA), and National Aeronautics and Space Administration (NASA).

ACTION: Notice and request for comments.

SUMMARY: In accordance with the Paperwork Reduction Act of 1995, and the Office of Management and Budget (OMB) regulations, DoD, GSA, and NASA invite the public to comment on an extension concerning extraordinary contractual action requests. DoD, GSA, and NASA invite comments on: whether the proposed collection of information is necessary for the proper performance of the functions of Federal Government acquisitions, including whether the information will have practical utility; the accuracy of the estimate of the burden of the proposed information collection; ways to enhance the quality, utility, and clarity of the information to be collected; and ways to minimize the burden of the information collection on respondents, including the use of automated collection techniques or other forms of information technology. OMB has approved this information collection for use through August 31, 2025. DoD, GSA, and NASA propose that OMB extend its approval for use for three additional years beyond the current expiration date.

DATES: DoD, GSA, and NASA will consider all comments received by June 10, 2025.

ADDRESSES: DoD, GSA, and NASA invite interested persons to submit comments on this collection through https://www.regulations.gov and follow the instructions on the site. This website provides the ability to type short comments directly into the comment field or attach a file for lengthier comments. If there are difficulties submitting comments, contact the GSA Regulatory Secretariat Division at 202-501-4755 or GSARegSec@gsa.gov.

Instructions: All items submitted must cite OMB Control No. 9000-0029, Extraordinary Contractual Action Requests. Comments received generally will be posted without change to https://www.regulations.gov, including any personal and/or business confidential information provided. To confirm receipt of your comment(s), please check www.regulations.gov, approximately two-to-three days after submission to verify posting.

FOR FURTHER INFORMATION CONTACT: FARPolicy@gsa.gov or call 202-969-4075.

SUPPLEMENTARY INFORMATION:

A. OMB Control Number, Title, and Any Associated Form(s)

9000-0029, Extraordinary Contractual Action Requests.

B. Need and Uses

This clearance covers the information that contractors must submit to comply with the following Federal Acquisition Regulation (FAR) requirements:

FAR 50.103-3, Contract Adjustment. This section specifies the minimum information that a contractor must include when seeking a contract adjustment that would facilitate the national defense, as set forth in Public Law 85-804. The request, normally a letter, shall state as a minimum—

(1) The precise adjustment requested;

(2) The essential facts, summarized chronologically in narrative form;

(3) The contractor's conclusions based on these facts, showing, in terms of the considerations set forth in FAR 50.103-1 and 50.103-2, when the contractor considers itself entitled to the adjustment; and

(4) Whether or not—

(i) All obligations under the contracts involved have been discharged;

(ii) Final payment under the contracts involved has been made;

(iii) Any proceeds from the request will be subject to assignment or other transfer, and to whom; and

(iv) The contractor has sought the same, or a similar or related, adjustment from the Government Accountability Office or any other part of the Government, or anticipates doing so.

If the request exceeds the simplified acquisition threshold, the contractor must certify that the request is made in good faith and the data are accurate and complete.

FAR 50.103-4, Facts and Evidence. This section covers additional information that the contracting officer or other agency official may request from the contractor to support any request made under FAR 50.103-3.

FAR 50.104-3, Special Procedures for Unusually Hazardous or Nuclear Risks. This section provides the information a contractor shall submit to the contracting officer when requesting the inclusion of the indemnification clause for unusually hazardous or nuclear risks at FAR 52.250-1.

FAR 52.250-1, Indemnification Under Public Law 85-804. This clause allows contractors to be indemnified against unusually hazardous or nuclear risks. Paragraph (g) requires the contractor to promptly notify the contracting officer and furnish pertinent information for any claim or loss that may involve indemnification under the clause.

The Government uses this information to determine if relief can be granted to the contractor and to determine the appropriate type and amount of relief.

C. Annual Burden

Respondents: 20.

Total Annual Responses: 30.

Total Burden Hours: 1,440.

Obtaining Copies: Requesters may obtain a copy of the information collection documents from the GSA Regulatory Secretariat Division, by calling 202-501-4755 or emailing GSARegSec@gsa.gov. Please cite OMB Control No. 9000-0029, Extraordinary Contractual Action Requests.

Janet Fry,
Director, Federal Acquisition Policy Division, Office of Governmentwide Acquisition Policy, Office of Acquisition Policy, Office of Governmentwide Policy.

[FR Doc. 2025-06183 Filed 4-10-25; 8:45 am]

BILLING CODE 6820-EP-P